FEDERAL COMMUNICATIONS COMMISSION

[GN Docket No. 19-329; FR ID 129707]

Federal Advisory Committee Act; Task Force for Reviewing the Connectivity and Technology Needs of Precision Agriculture in the United States

AGENCY: Federal Communications Commission.

ACTION: Notice of public meeting.

SUMMARY: In accordance with the Federal Advisory Committee Act, this notice advises interested persons that the Federal Communications Commission's (FCC or Commission) Task Force for Reviewing the Connectivity and Technology Needs of Precision Agriculture in the United States (Task Force) will hold its next meeting via live internet link.

DATES: March 28, 2023. The meeting will come to order at 10:00 a.m. EDT.

ADDRESSES: The meeting will be wholly electronic and is open to the public on the internet via live feed from the FCC's web page at www.fcc.gov/live.

FOR FURTHER INFORMATION CONTACT: Lauren Garry, Designated Federal Officer, at (202) 418-0942, or Lauren.Garry@fcc.gov; Emily Caditz, Deputy Designated Federal Officer, at (202) 418-2268, or Emily.Caditz@fcc.gov; or Thomas Hastings, Deputy Designated Federal Officer, at (202) 418-1343, or Thomas.Hastings@fcc.gov.

SUPPLEMENTARY INFORMATION: The meeting will be held on March 28, 2023 at 10:00 a.m. EDT and may be viewed live, by the public, at http://www.fcc.gov/live. Any questions that arise during the meeting should be sent to PrecisionAgTF@fcc.gov and will be answered at a later date. Members of the public may submit comments to the Task Force in the FCC's Electronic Comment Filing System, ECFS, at www.fcc.gov/ecfs. Comments to the Task Force should be filed in GN Docket No. 19-329.

Open captioning will be provided for this event. Other reasonable accommodations for people with disabilities are available upon request. Requests for such accommodations should be submitted via email to fcc504@fcc.gov or by calling the Consumer & Governmental Affairs Bureau at (202) 418-0530 (voice). Such requests should include a detailed description of the accommodation needed. In addition, please include a way the FCC can contact you if it needs more information. Please allow at least five days' advance notice; last minute requests will be accepted but may not be possible to fill.

Proposed Agenda: The Task Force and Working Group Leadership will provide updates on the progress of their respective reports; review and discuss program and policy expectations relevant to the Task Force's duties; and continue to discuss strategies to advance broadband deployment on agricultural land and promote precision agriculture. This agenda may be modified at the discretion of the Task Force Chair and the Designated Federal Officer.

Federal Communications Commission.
Marlene Dortch,
Secretary.

[FR Doc. 2023-04607 Filed 3-6-23; 8:45 am]

BILLING CODE 6712-01-P